ENVIRONMENTAL PROTECTION AGENCY

40 CFR Part 52

[EPA-R04-OAR-2009-0043-201024; FRL-9192-6]

Approval and Promulgation of Air Quality Implementation Plans; North Carolina and South Carolina; Charlotte-Gastonia-Rock Hill, North Carolina-South Carolina; Notice of Completeness Determination for the Purpose of Stopping Sanctions Clock

AGENCY: Environmental Protection Agency (EPA).

ACTION: Notice of Letter to Governor Regarding Completeness and Stopping of Sanctions Clock.

SUMMARY: EPA is now giving notice of an action that EPA has already taken to find two State Implementation Plan (SIP) revisions complete and stop sanctions clocks associated with the Charlotte-Gastonia-Rock Hill North Carolina, South Carolina 1997 8-hour ozone nonattainment area (hereafter referred to as the “bi-state Charlotte Area”). Pursuant to the Clean Air Act (CAA) and its implementing regulations, EPA has made an affirmative determination of completeness for the attainment demonstrations submitted by the States of North Carolina and South Carolina the bi-state Charlotte Area. On May 27, 2010, letters announcing this determination were sent to the Governors of North Carolina and South Carolina, effectively stopping the sanctions clock started on May 8, 2009, by a finding of failure to submit the attainment demonstrations. This notice is simply an announcement of a determination that EPA has already made.

ADDRESSES: EPA has established a docket for this action under Docket Identification No. EPA-R04-OAR-2009-0043. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION: Effective June 15, 2004, the bi-state Charlotte Area was designated nonattainment for the 8-hour ozone national ambient air quality standards (NAAQS) with a moderate classification. The bi-state Charlotte Area is comprised of Cabarrus, Gaston, Lincoln, Mecklenburg, Rowan, Union and a portion of Iredell (Davidson and Coddle Creek Townships) Counties in North Carolina; and a portion of York County, South Carolina. For the 1997 8-hour ozone NAAQS, States were required to submit an attainment demonstration, reasonable further progress plan, and reasonable available control technology submittals (for areas classified as moderate or above) by June 15, 2007. EPA received the required submittals from North Carolina on June 15, 2007, and South Carolina on August 31, 2007.

On December 19, 2008, and December 22, 2008, the States of North Carolina and South Carolina, respectively, submitted letters to EPA withdrawing their attainment demonstrations for the bi-state Charlotte Area. On May 8, 2009, EPA published a finding of failure to submit final rulemaking for North Carolina and South Carolina for these required SIPs. 74 FR 21550.

On November 12, 2009, and April 5, 2010, North Carolina submitted all components of the North Carolina attainment demonstration SIP for North Carolina's portion of the bi-state Charlotte Area. On November 13, 2009, and April 29, 2010, South Carolina submitted all components of the attainment demonstration SIP for South Carolina's portion of the bi-state Charlotte Area. EPA has done a completeness review, in accordance with Section 2.0 “Criteria” of Appendix V of 40 CFR Part 51—Criteria for Determining the Completeness of Plan Submissions, to ensure that the States have submitted all of the required information for the SIP submissions.

As explained in the letters sent by EPA to the Governors of North and South Carolina, on May 27, 2010,¹ EPA has determined that the States have corrected the deficiency identified in EPA's promulgated finding of failure to submit the required attainment demonstration SIPs for the bi-state Charlotte Area. Specifically, EPA has determined that both North Carolina and South Carolina have submitted complete SIP submittals for the bi-state Charlotte Area to meet the CAA requirement for attainment demonstrations for moderate nonattainment areas under the 1997 8-hour ozone NAAQS. EPA will make a determination on the approvability of these attainment demonstration SIPs for the bi-state Charlotte Area in a separate action. This announcement only relates to a completeness determination for the attainment demonstration SIPs for the bi-state Charlotte Area, and is separate from EPA's determination of approvability of these attainment demonstrations. This action is simply a notice of a determination that EPA already made through correspondence with the Governors of North and South Carolina.

¹ In the May 27, 2010, letters, EPA inadvertently identified incorrect submittal dates for North Carolina and South Carolina's SIP submissions. On June 18, 2010, EPA sent letters to North Carolina and South Carolina to correct the dates of the SIP submissions.

Authority: 42 U.S.C. 7401 et seq.

Dated: August 11, 2010.
A. Stanley Meiburg,
Acting Regional Administrator, Region 4.

[FR Doc. 2010-20989 Filed 8-23-10; 8:45 am]

BILLING CODE 6560-50-P